NATIONAL TRANSPORTATION SAFETY BOARD

Notice of Sunshine Act Meeting

Time: 9:30 a.m., May 23, 2006.

Place: NTSB Conference Center, 429 L'Enfant Plaza, SW., Washington, DC 20594.

Status: The two items are open to the public.

Matters to be Considered:

7768, Aircraft Accident Brief—Controlled Flight Into Terrain, Learjet 35A, N30DK, San Diego, California, October 24, 2004.

7758, Aircraft Accident Brief—Departure From Controlled Flight, Learjet 24B, N600XJ, Helendale, California, December 23, 2003.

News Media Contact: Ted Lopatkiewicz, Telephone: (202) 314-6100.

Individuals requesting specific accommodations should contact Chris Bisett at (202) 314-6305 by Friday, May 19, 2006.

The public may view the meeting via a live or archived Webcast by accessing a link under “News & Events” on the NTSB home page at http://www.ntsb.gov.

FOR FURTHER INFORMATION CONTACT: Vicky D'Onofrio, (202) 314-6410.

Dated: May 12, 2006.
Vicky D'Onofrio,
Federal Register Liaison Officer.

[FR Doc. 06-4618 Filed 5-12-06; 1:57am]

BILLING CODE 7533-01-M